FEDERAL DEPOSIT INSURANCE CORPORATION

FDIC Advisory Committee on Economic Inclusion (ComE-IN); Notice of Meeting

AGENCY: Federal Deposit Insurance Corporation (FDIC).

ACTION: Notice of open meeting.

SUMMARY: In accordance with the Federal Advisory Committee Act, notice is hereby given of a meeting of the FDIC Advisory Committee on Economic Inclusion. The Advisory Committee will provide advice and recommendations on initiatives to expand access to banking services by underserved populations.

DATES: Thursday, May 13, 2021, from 1:00 p.m. to 5:00 p.m.

ADDRESSES: To view the live event, visit http://fdic.windrosemedia.com. To view the recording, visit http://fdic.windrosemedia.com/index.php?category=Advisory+Committee+on+Economic+Inclusion+(Come-IN). If you require a reasonable accommodation to participate, please contact DisabilityProgram@fdic.gov or call 703-562-2096 to make necessary arrangements.

FOR FURTHER INFORMATION CONTACT: Requests for further information concerning the meeting may be directed to Ms. Debra Decker, Committee Management Officer of the FDIC, at (202) 898-8748.

SUPPLEMENTARY INFORMATION:

Agenda: The agenda will focus on updates from the committee members about key challenges facing their communities or organizations, expanding account access—#GetBanked, and expanding inclusion through technology and innovation. The agenda may be subject to change. Any changes to the agenda will be announced at the beginning of the meeting.

Type of Meeting: This meeting of the Advisory Committee on Economic Inclusion will be Webcast live via the internet http://fdic.windrosemedia.com. For optimal viewing, a high-speed internet connection is recommended. The meeting is open to the public. Out of an abundance of caution related to current and potential coronavirus developments, the public's means to observe this Advisory Committee on Economic Inclusion meeting will be via a Webcast live on the internet. In addition, the meeting will be recorded and subsequently made available on-demand approximately two weeks after the event.

Federal Deposit Insurance Corporation.
Dated at Washington, DC, on April 20, 2021.
James P. Sheesley,
Assistant Executive Secretary.

[FR Doc. 2021-08556 Filed 4-26-21; 8:45 am]

BILLING CODE 6714-01-P